FEDERAL COMMUNICATIONS COMMISSION

47 CFR Part 73

[DA 00-251]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

EFFECTIVE DATE: February 25, 2000.

FOR FURTHER INFORMATION CONTACT: Kathleen Scheuerle, Mass Media Bureau, (202) 418-2180.

SUPPLEMENTARY INFORMATION: This is a summary of the Commission's Report and Order, adopted February 2, 2000, and released February 11, 2000. The full text of this Commission decision is available for inspection and copying during normal business hours in the Commission's Reference Center, 445 12th Street, SW., Washington, DC. The complete text of this decision may also be purchased from the Commission's copy contractors, International Transcription Service, Inc., 1231 20th Street, NW., Washington, DC. 20036, (202) 857-3800, facsimile (202) 857-3805.

List of Subjects in 47 CFR Part 73

Radio broadcasting.

Part 73 of title 47 of the Code of Federal Regulations is amended as follows:

47 CFR PART 73—[AMENDED]

1. The authority citation for Part 73 continues to read as follows:

Authority: 47 U.S.C. 154, 303, 334 and 336.

§ 73.202 [Amended]

2. Section 73.202(b), the Table of FM Allotments under Alabama, is amended by removing Channel 276A and adding Channel 276C3 at Moulton.

3. Section 73.202(b), the Table of FM Allotments under Colorado, is amended by removing Channel 263C1 and adding Channel 263C at Durango, removing Channel 297A and adding Channel 297C2 at Hayden, and by removing Channel 285C3 and adding Channel 285C1 at Telluride.

4. Section 73.202(b), the Table of FM Allotments under Florida, is amended by removing Channel 249C1 and adding Channel 249A at Marathon.

5. Section 73.202(b), the Table of FM Allotments under Illinois, is amended by removing Channel 238A and adding Channel 238C3 at Bethalto.

6. Section 73.202(b), the Table of FM Allotments under Indiana, is amended by removing Channel 299B and adding Channel 299B1 at Corydon.

7. Section 73.202(b), the Table of FM Allotments under Kansas, is amended by removing Channel 251A and adding Channel 251C3 at Dearing.

8. Section 73.202(b), the Table of FM Allotments under Louisiana, is amended by removing Channel 243C3 and adding Channel 243C2 at Breaux Bridge and by removing Channel 249C3 and adding Channel 249C1 at Dubach.

9. Section 73.202(b), the Table of FM Allotments under Michigan, is amended by removing Channel 264C1 and adding Channel 264A at Crystal Falls and by removing Channel 266C2 and adding Channel 266C1 at Ontonagon.

10. Section 73.202(b), the Table of FM Allotments under Minnesota, is amended by removing Channel 296C3 and adding Channel 296A at Moose Lake and by removing Channel 288A and adding Channel 288C3 at St. Peter.

11. Section 73.202(b), the Table of FM Allotments under Missouri, is amended by removing Channel 284A and adding Channel 284C3 at Chaffee, by removing Channel 272A and adding Channel 272C2 at Dexter, and by removing Channel 222A and adding Channel 222C2 at Thayer.

12. Section 73.202(b), the Table of FM Allotments under Montana, is amended by removing Channel 283A and adding Channel 283C1 at Big Sky.

13. Section 73.202(b), the Table of FM Allotments under Nebraska, is amended by removing Channel 276A and adding Channel 275C at Imperial.

14. Section 73.202(b), the Table of FM Allotments under New Mexico, is amended by removing Channel 291C2 and adding Channel 291C1 at Gallup.

15. Section 73.202(b), the Table of FM Allotments under Texas, is amended by removing Channel 268C1 and adding Channel 267C1 at Brownwood, by removing Channel 228A and adding Channel 228C2 at Junction, by removing Channel 240A and adding Channel 241C3 at Perryton, by removing Channel 274A and adding Channel 274C3 at Winona, and by removing Channel 241A and adding Channel 241C2 at Winters.

16. Section 73.202(b), the Table of FM Allotments under Utah, is amended by removing Channel 223A and adding Channel 223C3 at Coalville.

17. Section 73.202(b), the Table of FM Allotments under Vermont, is amended by removing Channel 229A and adding Channel 229C3 at Addison.¹

18. Section 73.202(b), the Table of FM Allotments under Virginia, is amended by removing Channel 299A and adding Channel 299C3 at Cedar Bluff.

19. Section 73.202(b), the Table of FM Allotments under Washington, is amended by removing Channel 245C3 and adding Channel 245C2 at Spokane.

Federal Communications Commission.
John A. Karousos,
Chief, Allocations Branch,
Policy and Rules Division, Mass Media Bureau.

¹ Pursuant to MM Docket No. 98-52, effective December 14, 1998, Channel 229C3 was substituted for Channel 229A at Hague, New York, and reallotted to Addison, Vermont. See 63 FR 62957, November 10, 1998. In a Report and Order released on July 16, 1999, Channel 229A was substituted for Channel 229C3 at Addison, Vermont. See 64 FR 39941, July 23, 1999.

[FR Doc. 00-4386 Filed 2-24-00; 8:45 am]

BILLING CODE 6712-01-P